DEPARTMENT OF TRANSPORTATION

Federal Aviation Administration

14 CFR Part 39

[Docket No. FAA-2025-5034; Project Identifier MCAI-2025-00951-R; Amendment 39-23268; AD 2026-04-08]

RIN 2120-AA64

Airworthiness Directives; Airbus Helicopters

AGENCY: Federal Aviation Administration (FAA), DOT.

ACTION: Final rule.

SUMMARY: The FAA is adopting a new airworthiness directive (AD) for all Airbus Helicopters Model AS332C, AS332C1, AS332L, AS332L1, and AS332L2 helicopters. This AD was prompted by a report of rupture of the scissors link of the rotating swashplate assembly due to a seized ball joint-cups assembly. This AD requires replacing the rotor shaft assembly, modifying the rotating swashplate assembly to replace each of the three ball joint-cups assemblies with one-piece self-lubricated spherical bearings, and modifying the scissors hinges and swashplate trunnions on the main rotor, as applicable, and applying an anti-corrosion agent, if applicable. This AD also prohibits installing a main rotor hub (MRH) assembly or rotor shaft assembly on a helicopter unless certain requirements are met. The FAA is issuing this AD to address the unsafe condition on these products.

DATES: This AD is effective April 7, 2026.

The Director of the Federal Register approved the incorporation by reference of a certain publications listed in this AD as of April 7, 2026.

ADDRESSES:

AD Docket: You may examine the AD docket at regulations.gov under Docket No. FAA-2025-5034; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-5034.

FOR FURTHER INFORMATION CONTACT: Adam Hein, Aviation Safety Engineer, FAA, 1600 Stewart Avenue, Suite 410, Westbury, NY 11590; phone: (316) 946-4116; email: adam.hein@faa.gov.

SUPPLEMENTARY INFORMATION:

Background

The FAA issued a notice of proposed rulemaking (NPRM) to amend 14 CFR part 39 by adding an AD that would apply to all Airbus Helicopters Model AS332C, AS332C1, AS332L, AS332L1, and AS332L2 helicopters. The NPRM was published in the Federal Register on November 28, 2025 (90 FR 54596). The NPRM was prompted by EASA AD 2025-0116, dated May 19, 2025, (EASA AD 2025-0116) (also referred to as the MCAI), issued by EASA, which is the Technical Agent for the Member States of the European Union. The MCAI states that an occurrence was reported of rupture of the scissors link of the rotating swashplate assembly resulting from a seized ball joint-cups assembly. The MCAI further states subsequent investigation revealed the following probable causes: the cups and ball joint that are normally paired were unpaired or mixed during an overhaul; and the cups and ball joint assembly had not been properly lubricated during overhaul. In addition, the cups and the ball joint are made of tungsten carbide, whose failure mode can cause a sudden seizure of the assembly. This condition, if not addressed, could lead to loss of connection between rotor shaft and rotating swashplate and consequent loss of control of the helicopter.

In the NPRM, the FAA proposed to require Group 1 helicopters (as defined in the MCAI) to replace the rotor shaft assembly, Group 2 helicopters (as defined in the MCAI) to modify the rotating swashplate assembly to replace each of the three ball joint-cups assemblies with one-piece self-lubricated spherical bearings or replace the MRH assembly with an MRH assembly in post-mod 0728849 and post-mod 0743046 configurations, and AS332C and AS332L helicopters to modify the scissors hinges and swashplate trunnions on the main rotor, as applicable. The NPRM also proposed to require Group 3 helicopters (as defined in the MCAI) to apply an anti-corrosion agent, if applicable. Additionally, the NPRM proposed to prohibit installing a MRH assembly or rotor shaft assembly on a helicopter unless certain requirements are met.

You may examine the MCAI in the AD docket at regulations.gov under Docket No. FAA-2025-5034.

Discussion of Final Airworthiness Directive

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2025-0116, which specifies procedures for replacing the rotor shaft assembly, modifying the rotating swashplate assembly, or replacing the MRH assembly as an alternative action for certain helicopters, as applicable. EASA AD 2025-0116 also specifies procedures for certain helicopters to incorporate modification 0743046 either before or concurrently with the modification of the rotating swashplate assembly. Additionally, EASA AD 2025-0116 specifies procedures for applying anti-corrosion agent on the parts, as applicable. EASA AD 2025-0116 prohibits installing a MRH assembly or a rotor shaft assembly unless it is a post-mod 0728849 configuration.

This material is reasonably available because the interested parties have access to it through their normal course of business or by the means identified in the ADDRESSES section.

Costs of Compliance

The FAA estimates that this AD affects 12 helicopters of U.S. registry.

The FAA estimates the following costs to comply with this AD:

Estimated Costs
Action | Labor cost | Parts cost | Cost per product | Cost on U.S. operators
Replace three ball joint-cups assemblies | 3 work-hours × $85 = $255 | $9,861 | $10,116 | $121,392.
Apply anti-corrosion agent | 3 work-hours × $85 per hour = $255 | 0 | 0 | Up to $3,060.

The FAA has received no definitive data on which to base the cost estimates for replacing the rotor shaft assembly with a rotor shaft assembly that has incorporated modifications 0743714 and 0728849, modifying the rotating swashplate assembly to incorporate modification 0743046, or for the optional action of replacing the MRH assembly with an MRH assembly that has incorporated modifications 0728849 and 0743046 specified in this AD.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2026-04-08 Airbus Helicopters: Amendment 39-23268; Docket No. FAA-2025-5034; Project Identifier MCAI-2025-00951-R.

(a) Effective Date

This airworthiness directive (AD) is effective April 7, 2026.

(b) Affected ADs

None.

(c) Applicability

This AD applies to Airbus Helicopters Model AS332C, AS332C1, AS332L, AS332L1, and AS332L2 helicopters, certificated in any category.

(d) Subject

Joint Aircraft System Component (JASC) Code 6230, Main Rotor Mast/Swashplate.

(e) Unsafe Condition

This AD was prompted by a report of the rupture of the scissors link of the rotating swashplate assembly due to a seized ball joint-cups assembly. The FAA is issuing this AD to prevent the ball joint-cups assembly from seizing. This condition, if not addressed, could lead to loss of connection between rotor shaft and rotating swashplate and consequent loss of control of the helicopter.

(f) Compliance

Comply with this AD within the compliance times specified, unless already done.

(g) Required Actions

Except as specified in paragraphs (h) and (i) of this AD: Comply with all required actions and compliance times specified in, and in accordance with, European Union Aviation Safety Agency AD 2025-0116, dated May 19, 2025 (EASA AD 2025-0116).

(h) Exceptions to EASA AD 2025-0116

(1) Where EASA AD 2025-0116 refers to September 5, 2024 (the effective date of EASA AD 2024-0168), this AD requires using the effective date of this AD.

(2) Where EASA AD 2025-0116 refers to its effective date, this AD requires using the effective date of this AD.

(3) Where paragraph (3) of EASA AD 2025-0116 refers to “modify that helicopter in accordance with the instructions of the Airbus Helicopter SB 62.00.05”, this AD replaces that text with “modify that helicopter in accordance with the instructions of the Societe Nationale Industrielle Aerospatiale Service Bulletin No. 62.05, Revision 2”.

(4) This AD does not adopt the “Remarks” section of EASA AD 2025-0116.

(i) No Reporting Requirement

Although the material referenced in EASA AD 2025-0116 specifies to submit certain information to the manufacturer, this AD does not require that action.

(j) Special Flight Permits

Special flight permits are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and email to: AMOC@faa.gov.

(2) Before using any approved AMOC, notify your appropriate principal inspector, or lacking a principal inspector, the manager of the local flight standards district office/certificate holding district office.

(l) Additional Information

For more information about this AD, contact Adam Hein, Aviation Safety Engineer, FAA, 1600 Stewart Avenue, Suite 410, Westbury, NY 11590; phone: (316) 946-4116; email: adam.hein@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0116, dated May 19, 2025.

(ii) Reserved

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on February 17, 2026.
Steven W. Thompson,
Acting Deputy Director, Compliance & Airworthiness Division, Aircraft Certification Service.

[FR Doc. 2026-04164 Filed 3-2-26; 8:45 am]

BILLING CODE 4910-13-P